DEPARTMENT OF ENERGY

Federal Energy Regulatory Commission

[Docket No. EL20-72-000]

Louisiana Public Service Commission, Arkansas Public Service Commission, Council of the City of New Orleans, Louisiana, Mississippi Public Service Commission v. System Energy Resources, Inc., Entergy Services, LLC; Notice of Complaint

Take notice that on September 21, 2020, pursuant to sections 306, and 309 of the Federal Power Act, 16 U.S.C. 825e, and 825h, and Rule 206 of the Federal Energy Regulatory Commission's (Commission) Rules of Practice and Procedure, 18 CFR 385.206, Louisiana Public Service Commission, Arkansas Public Service Commission, Council of the City of New Orleans, Louisiana, and Mississippi Public Service Commission (Complainants) filed a formal complaint against System Energy Resources, Inc. (SERI) and Entergy Services, LLC (Respondents), alleging that SERI violated its filed rate and the Commission's ratemaking and accounting requirements in billing the costs of the Grand Gulf nuclear unit to its four affiliated customers, Entergy Arkansas, LLC., Entergy Louisiana LLC., Entergy Mississippi, LLC. and Entergy New Orleans, LLC, pursuant to a Unit Power Sales Agreement, all as more fully explained in the complaint.

The Complainants certifies that copies of the complaint were served on the contacts listed for Respondents in the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission strongly encourages electronic filings of comments, protests and interventions in lieu of paper using the eFiling link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

In addition to publishing the full text of this document in the Federal Register, the Commission provides all interested persons an opportunity to view and/or print the contents of this document via the internet through the Commission's Home Page (http://ferc.gov) using the eLibrary link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov, or call toll-free, (886) 208-3676 or TYY, (202) 502-8659.

Comment Date: 5:00 p.m. Eastern Time on October 12, 2020.

Dated: September 22, 2020.
Kimberly D. Bose,
Secretary.

[FR Doc. 2020-21344 Filed 9-25-20; 8:45 am]

BILLING CODE 6717-01-P